DEPARTMENT OF ENERGY

Federal Energy Regulatory Commission

[Docket No. AD22-9-000]

New England Winter Gas-Electric Forum; Notice of Request for Comments

On September 8, 2022, the Federal Energy Regulatory Commission (Commission) convened a forum in the above captioned proceeding to discuss the electricity and natural gas challenges facing the New England region. Topics discussed included the historical context of New England winter gas-electric challenges, concerns and considerations for upcoming winters such as reliability of gas and electric systems and fuel procurement issues, and whether additional information or modeling exercises are needed to inform the development of solutions to these challenges.

Any party wishing to submit comments regarding the topics discussed at the forum may do so on or before November 7, 2022.

Comments may be filed electronically via the internet.¹ Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

¹ See 18 CFR 385.2001(a)(1)(iii) (2021).

For more information about this Notice, please contact:

Ernesto Guzman (Technical Information), Office of Energy Market Regulation, (202) 502-6565, Ernesto.Guzman@ferc.gov

Eric Winterbauer (Legal Information), Office of the General Counsel, (202) 502-8329, Eric.Winterbauer@ferc.gov

Dated: September 21, 2022.
Debbie-Anne A. Reese,
Deputy Secretary.

[FR Doc. 2022-20873 Filed 9-26-22; 8:45 am]

BILLING CODE 6717-01-P